DEPARTMENT OF DEFENSE

Department of the Navy

[Docket ID: USN-2022-HQ-0007]

Proposed Collection; Comment Request

AGENCY: Department of the Navy, Department of Defense (DoD).

ACTION: 60-Day information collection notice.

SUMMARY: In compliance with the Paperwork Reduction Act of 1995, the Department of the Navy announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 16, 2022.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to 390 San Carlos Rd., Ste. A, Pensacola, FL 32508-5508, ATTN: Navy Flight Demonstration Squadron, or call Ms. Sonya Martin at 703-614-7585.

SUPPLEMENTARY INFORMATION: Title; Associated Form; and OMB Number: Navy Flight Demonstration Squadron (Blue Angels) Backseat Rider Programs; OPNAV Forms 5720/13, 5720/14, 5720/15; OMB Control Number 0703-0073.

Needs and Uses: This information collection requirement is necessary to medically clear and coordinate with individuals selected through the Key Influencer (KI) program and media personnel so that they may participate in backseat flights at Blue Angels' air shows and demonstrations. Flying these candidates, in coordination with media presence, is intended to promote the Navy and Marine Corps as professional and exciting organizations in which to serve.

Affected Public: Individuals or households.

OPNAV Forms 5720/13 and 5720/14

Annual Burden Hours: 30.

Number of Respondents: 30.

Responses per Respondent: 2.

Annual Responses: 60.

Average Burden per Response: 30 minutes.

OPNAV Form 5270/15

Annual Burden Hours: 120.

Number of Respondents: 240.

Responses per Respondent: 1.

Annual Responses: 240.

Average Burden per Response: 30 minutes.

Total

Annual Burden Hours: 150.

Number of Respondents: 270.

Annual Responses: 300.

Average Burden per Response: 30 minutes.

Frequency: On occasion.

Respondents are persons selected through the KI program, credentialed media representatives and local air show liaisons. The completed forms certify that the selected individuals are physically fit to fly and that the Blue Angels Public Affairs staff are able to coordinate flight information with respondents. If these forms are not completed, Blue Angels' staff cannot be readily assured of the physical fitness, qualifications and contact information of respondents. Having these forms reviewed by medical personnel and public affairs staff is essential in maintaining the safety and integrity of the Navy Flight Demonstration Backseat Rider process and program.

Dated: March 8, 2022.
Aaron T. Siegel,
Alternate OSD Federal Register Liaison Officer, Department of Defense.

[FR Doc. 2022-05451 Filed 3-14-22; 8:45 am]

BILLING CODE 5001-06-P